DEPARTMENT OF AGRICULTURE

Forest Service

Tongass National Forest Timber; Demand Considerations; Alaska

AGENCY: Forest Service, USDA.

ACTION: Notice of availability.

SUMMARY: A notice of availability and request for comment on draft timber sale procedures for the Tongass National Forest was published in the Federal Register on November 27, 1998 (Vol. 63, No. 228). The draft procedures described an approach for incorporating market and industry information in planning the annual sale program for the Tongass National Forest in accordance with Section 101 of the Tongass Timber Reform Act. The draft procedures were made available to the public at the Regional Forester's office in Juneau, Alaska, and the three Forest Supervisor's Offices in Ketchikan, Petersburg, and Sitka, Alaska. In addition, the document was posted on the internet at a location identified in press releases and briefing sessions. A total of six sets of comments were received and incorporated in the final procedures (“Responding to the Market Demand for Tongass Timber,” R10-MB-413, April 2000, USDA Forest Service, Alaska Region). Implementation direction for the procedures is included in the Forest Service Sale Preparation Handbook, Region 10 Supplement 2409.18-2000-1. The Forest Service hereby gives notice that the final procedures and Forest Service directive are now available to the public.

ADDRESSES: Copies of the final procedures and Region 10 Supplement may be obtained by writing Rick Cables, Regional Forester, Alaska Region, Forest Service, USDA, P.O. Box 21628, Juneau, Alaska 99802-1628. The final procedures are also posted on the Alaska Region internet site at www.fs.fed.us./r10/ro/epb/economic.htm.

FOR FURTHER INFORMATION CONTACT: Frederick L. Norbury or Kathleen S. Morse, Ecosystem Planning Staff, Forest Service, USDA, P.O. Box 21628, Juneau, Alaska 99802-1628; (907) 586-8886/8809.

SUPPLEMENTARY INFORMATION:

Statutory and Regulatory Background

Section 705(a) of the Alaska National Lands Conservation Act (Pub. L. 96-487) required the Forest Service to “maintain the timber supply from the Tongass National Forest to dependent industry at a rate of four billion five hundred million board feet measure per decade.” Section 101 of the Tongass Timber Reform Act (Pub. L. 101-626) removed the timber supply mandate and substituted a more general requirement that the Forest Service seek to provide a supply of timber from the Tongass which meets the annual market demand for timber from such forest and meets the market demand for timber from such forest over the planning cycle. The legislation qualified this admonishment, saying that efforts to meet market demand must be consistent with providing for the multiple use and sustained yield of all renewable forest resources. Further, such efforts are subject to appropriations, other applicable law and the requirements of the National Forest Management Act (Pub. L. 94-588).

In the Record of Decision (ROD) for the Tongass Land and Resource Management Plan (May 23, 1997) the Regional Forester made a commitment to “develop procedures to ensure that annual timber offerings are consistent with market demand.” In April 1999, a new ROD for the Tongass Forest Plan was issued by Under Secretary Lyons. The 1999 ROD referenced the draft procedures, finding them to be “an appropriate methodology for the purposes of implementing the ‘seek to meet market demand’ language of the TTRA.” The 6* draft procedures were made available for public review and comment via Federal Register notification on November 27, 1998 (Vol. 63, No. 228). The procedures and implementing direction have been finalized.

Summary of Procedures

The procedures estimate the volume of timber likely to be purchased from the Tongass National Forest in the coming year based on observations of industry behavior in prior years. The industry draws its annual raw material supply from an accumulated inventory of timber volume under contract, sometimes called the “buffer stock.” This inventory must be large enough to keep mills operating at a steady rate while new sales are being prepared for offer and harvest. Historically, the Forest Service has attempted to allow the industry as a whole to hold the equivalent of two to three years' worth of raw material as volume under contract. The procedures suggest a similar approach but define this inventory requirement in more analytical terms.

The draft procedures assume that, at a minimum, the industry will want to maintain its existing timber inventory and will purchase timber to replace that harvested in a given year. If the existing timber inventory is lower than desired, the industry is likely to purchase more timber than is processed in order to build inventory. Commonly, if the inventory is higher than desired, the industry is likely to purchase less. By comparing the current inventory with an estimate of the desired inventory and factoring in projected annual harvest, the Forest Service can develop a range of expected timber purchases for any given year. The volume offered will be adjusted to fall within the most current estimate.

Comments and Responses

The Forest Service issued a Notice of Availability and Request for Comment on the draft procedures in the Federal Register on November 27, 1998 (Vol. 63, No. 228). The comment period closed January 1, 1999.

All relevant comments have been given full consideration in adoption of the final procedures and implementing direction. Comments were received from two environmental organizations, one timber industry association, two economic consulting firms, and one timber sale purchaser. All respondents were from Alaska or from entities representing Alaskan interests. A summary of the comments and responses is in the final report.

Dated: March 24, 2000.
James A. Caplan,
Deputy Regional Forester for Natural Resources.

[FR Doc. 00-8726 Filed 4-7-00; 8:45 am]

BILLING CODE 3410-11-M